DEPARTMENT OF ENERGY

[Docket No. EA-223-A]

Application to Export Electric Energy; CMS Marketing, Services and Trading Company

AGENCY: Office of Fossil Energy, DOE.

ACTION: Notice of application.

SUMMARY: CMS Marketing, Services and Trading Company (CMS) has applied for authority to transmit electric energy from the United States to Canada pursuant to section 202(e) of the Federal Power Act.

DATES: Comments, protests or requests to intervene must be submitted on or before June 24, 2002.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On July 11, 2000, the Office of Fossil Energy (FE) of the Department of Energy (DOE) issued Order No. EA-223 authorizing CMS to transmit electric energy from the United States to Canada as a power marketer using the international electric transmission facilities owned and operated by Basin Electric Power Cooperative, Bonneville Power Administration, Citizen Utilities, Eastern Maine Electric Cooperative, International Transmission Company (formally The Detroit Edison Company), Joint Owners of the Highgate Project, Long Sault, Inc., Maine Electric Power Company, Maine Public Service Company, Minnesota Power Inc., Minnkota Power Cooperative, New York Power Authority, Niagara Mohawk Power Corporation, Northern States Power, and Vermont Electric Transmission Company. That two-year authorization expires on July 11, 2002.

On May 30, 2002, DOE received an application from CMS to renew its authorization to transmit electric energy from the United States to Canada. Further, CMS requests that an electricity export authorization be issued for a 5-year term.

Procedural Matters: Any person desiring to become a party to this proceeding or to be heard by filing comments or protests to this application should file a petition to intervene, comment or protest at the address provided above in accordance with section 385.211 or 385.214 of the Federal Energy Regulatory Commission's Rules of Practice and Procedures (18 CFR 385.211, 385.214). Fifteen copies of each petition and protest should be filed with DOE on or before the date listed above.

Comments on the CMS application to export electric energy to Canada should be clearly marked with Docket EA-223-A. Additional copies are to be filed directly with Francis X. Berkemeier, Attorney, 212 W. Michigan Avenue, Jackson, MI 49201 and Karyl M. Lawson, General Counsel, 1021 Main St., Ste. 2900, Houston, TX 77002.

DOE notes that the circumstances described in this application are virtually identical to those for which export authority had previously been granted in FE Order No. EA-223. Consequently, DOE believes that it has adequately satisfied its responsibilities under the National Environmental Policy Act of 1969 through the documentation of a categorical exclusion in the FE Docket EA-223 proceeding.

Copies of this application will be made available, upon request, for public inspection and copying at the address provided above or by accessing the FE Home Page at http://www.fe.de.gov. Upon reaching the FE Home page, select “Electricity Regulation” and then “Pending Proceedings” from the options menus.

Issued in Washington, DC, on June 4, 2002.
Anthony J. Como,
Deputy Director, Electric Power Regulation, Office of Coal & Power Import/Export, Office of Coal & Power Systems, Office of Fossil Energy.

[FR Doc. 02-14393 Filed 6-6-02; 8:45 am]

BILLING CODE 6450-01-P